DEPARTMENT OF TRANSPORTATION

Federal Railroad Administration

[Docket No. FRA-2025-0008]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before October 7, 2025.

ADDRESSES: Written comments and recommendations for the proposed ICR should be submitted on www.regulations.gov to the docket, Docket No. FRA-2025-0008. All comments received will be posted without change to the docket, including any personal information provided. Please refer to the assigned OMB control number (2130-0509) in any correspondence submitted. FRA will summarize comments received in response to this notice in a subsequent notice, made available to the public, and include them in its information collection submission to OMB for approval.

FURTHER INFORMATION CONTACT: Ms. Arlette Mussington, Information Collection Clearance Officer, at email: arlette.mussington@dot.gov or telephone: (571) 609-1285 or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: State Safety Participation Regulations and Reporting of Remedial Actions.

OMB Control Number: 2130-0509.

Abstract: Title 49 CFR part 212 requires qualified State inspectors to provide various reports to FRA for monitoring and enforcement purposes concerning State investigative, inspection, and surveillance activities related to railroad compliance with Federal railroad safety laws and regulations. Additionally, under 49 CFR part 209, subpart E, railroads are required to report to FRA actions taken to remedy certain alleged violations of law.

In this 60-day notice, FRA shows updated burden estimates for each information collection requirement under part 212. FRA previously combined the burden estimates for several sections and reported the combined burden under 49 U.S.C. 20105, the statute that authorizes part 212. Updated estimates are now provided on a section-by-section basis.

In addition, § 212.109 has been removed from this ICR because it was recently repealed by FRA.¹ Because it was obsolete, removing § 212.109 from this ICR does not affect the overall PRA burden under part 212. It required no actual information collection even before it was repealed.

¹ 90 FR 28130 (July 1, 2025).

² For State respondents, the dollar equivalent cost is derived from the May 2024 Bureau of Labor Statistics (BLS) data for management occupations, NAICS 999100—State Government, excluding schools and hospitals. https://data.bls.gov/oes/#/industry/999200. To calculate the hourly wage of $88.36 for this category of workers, FRA included a 75-percent charge for overhead costs (50.49 × 1.75 = 88.36). The dollar equivalent cost for railroad respondents is derived from the Surface Transportation Board's 2024 Full Year Wage A&B data series using employee group 200 (Professional & Administrative) hourly wage rate $50.93. The total burden wage rate (straight time plus 75 percent) used in the table is $89.13 ($50.93 × 1.75 = $89.13).

³ Totals may not add up due to rounding.

Estimated burden hours under this ICR have been reduced from 11,958 to 9,851 hours, and the number of responses from 24,066 to 23,225. This decrease, after a thorough review, is the result of the changes described in the following sections summarized below:

• FRA reduced the estimated number of annual violation reports submitted by State inspectors in various disciplines from 1,154 to 690 violation reports. Accordingly, the estimated burden hours for these reports were decreased by 1,856.

• Under § 209.405(b), FRA adjusted the estimated number of violation report challenges from 240 to 50 annually. This adjustment more accurately reflects the estimated number of burden hours, decreasing the burden by 143.

• Under § 209.407, FRA decreased the estimated number of delayed reports from 240 to 50 annually, reducing the reported burden by 143 hours.

These revised estimates contributed to an overall reduction of 2,107 burden hours.

Type of Request: Extension without change (with changes in estimates) of a currently approved collection.

Affected Public: Businesses.

Form(s): FRA F 6180.33/61/67/96/96A/109/110/111/112.

Respondent Universe: States and railroads.

Frequency of Submission: On occasion.

Reporting Burden
Title 49, CFR section | Respondent universe | Total annual responses | Avg. time per response | Total annual burden hours | Wage rate ² | Total cost equivalent U.S.D.
|  | (A) | (B) | (A * B = C) | (D) | (E = C * D)
212.105 Agreements
—Railroad Safety State Participation Agreement (SPA) Annual updates, technical training plans and revised schedules to existing agreements | 34 States | 34 updates | 1 hour | 34 | $88.36 | $3,004.24
—New State Participation Agreement, including opinion of counsel and schedule of current participation | 15 States | 1 agreement | 32 hours | 32 | 88.36 | 2,827.52
—State Inspector travel planning and reimbursement | 34 States | 600 vouchers | 1.5 hours | 900 | 88.36 | 79,524.00
212.107 Certification
—State to file annual certification in the event that FRA and the State agency do not agree on terms for the participation under § 212.105 | FRA anticipates zero submissions for this paperwork requirement over the next three-year period.
212.113 Program termination
—30-day notice provided by State agency of its intent to terminate its participation | FRA anticipates zero submissions for this paperwork requirement over the next three-year period.
—FRA F 6180.96 Inspection Report—All disciplines submitted by State inspectors | 34 States | 19,400 forms | 15 minutes | 4,850 | 88.36 | 428,546.00
—FRA F 6180.33 Hours of Service Law Violation Report | 19 States | 2 reports | 4 hours | 8 | 88.36 | 706.88
—FRA F 6180.61 Accident/Incident Reporting Rules Violation Report | 19 States | 2 reports | 4 hours | 8 | 88.36 | 706.88
—FRA F 6180.67 Operating Practices Regulations Violation Report | 19 States | 194 reports | 4 hours | 776 | 88.36 | 68,567.36
—FRA F 6180.109 Motive Power and Equipment Regulations Violation Report | 19 States | 215 reports | 4 hours | 1,440 | 88.36 | 75,989.60
—FRA F 6180.110 Hazardous Materials Regulations Violation Report | 17 States | 171 reports | 4 hours | 1,680 | 88.36 | 60,438.24
—FRA F 6180.111 Track Safety Regulations Violation Report | 26 States | 66 reports | 4 hours | 440 | 88.36 | 23,327.04
—FRA F 6180.112 Signal and Train Control Regulations Violation Report | 14 States | 40 reports | 4 hours | 320 | 88.36 | 14,137.60
209.405 Reporting of remedial actions
—(a) Completion of remedial actions report on FRA F 6180.96 after receipt of written notification from an FRA or State Safety Inspector | 745 railroads | 2,400 reports | 30 minutes | 1,200 | 89.13 | 106,956.00
—(b) Violation report challenge by the railroads—Remedial action reports | 745 railroads | 50 challenges | 45 minutes | 37.50 | 89.13 | 3,342.38
209.407 Delayed Reports
—Delayed reports | 745 railroads | 50 reports | 45 minutes | 37.50 | 89.13 | 3,342.88
Total ³ | 34 States 745 Railroads | 23,225 responses | N/A | 9,851 |  | 871,416.12

Total Estimated Annual Responses: 23,225.

Total Estimated Annual Burden: 9,851 hours.

Total Estimated Annual Burden Hour Dollar Cost Equivalent: $871,416.12.

FRA informs all interested parties that it may not conduct or sponsor, and a respondent is not required to respond to, a collection of information that does not display a currently valid OMB control number.

(Authority: 44 U.S.C. 3501-3520.)

Christopher S. Van Nostrand,
Deputy Chief Counsel.

[FR Doc. 2025-15056 Filed 8-7-25; 8:45 am]

BILLING CODE 4910-06-P